DEPARTMENT OF JUSTICE

National Institute of Corrections

Solicitation for a Cooperative Agreement: Document Development—Working With Mental Illness in Corrections: A Framework, Strategies and Best Practices

AGENCY: National Institute of Corrections, Department of Justice.

ACTION: Solicitation for a cooperative agreement.

SUMMARY: The National Institute of Corrections (NIC) is soliciting proposals from organizations, groups or individuals to enter into a cooperative agreement for the development of a document to provide correctional administrators and practitioners in jails, prisons and community corrections a framework/model and guide to implement best strategies and practices to work with offenders diagnosed with mental illness or demonstrate mental health problems.

DATES: Applications must be received by 4 p.m. EST on Friday, February 12, 2010.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: A copy of this announcement and a link to the required application forms can be downloaded from the NIC Web page at http://www.nicic.gov. All technical or programmatic questions concerning this announcement should be directed to Michael Dooley, Correctional Program Specialist (CPS), National Institute of Corrections (NIC) at mdooley@bop.gov.

SUPPLEMENTARY INFORMATION: Background: Correctional systems are confronted with substantial numbers of persons with mental illness who are detained, committed and/or are under supervision through the nation's jails, prisons and community corrections. According to the New Freedom Commission on Mental Health: Subcommittee on Criminal Justice, “people with serious mental illnesses who come in contact with the criminal justice system are typically poor and uninsured, are disproportionately members of minority groups, and often are homeless and have co-occurring substance abuse and mental disorders. They cycle in and out of homeless shelters, hospitals, and jails, occasionally receiving mental health and substance abuse services, but most likely receiving no services at all (APA, 2000).”

A recent study on the prevalence of adults with serious mental illnesses in jails suggest that of more than 20,000 adults entering five local jails are documented with serious mental illnesses in 14.5 percent of the men and 31 percent of the women, rates in excess of three to six times those found in the general population (Steadman, Osher, Robbins, Case and Samuels, June 2009).

In a NIC 2008 Needs Assessment, interviewees noted that problems with mental illness continue to challenge both prison and jail operations, and there is a critical need for more collaboration with providers of services for the mentally ill, and a review of policies driving them into the corrections system. According to the 2005 NIC Needs Assessment “Adequacy of offender mental health care” was the second highest (2.48) concern to senior corrections officials (Clem and Eggers, 2005).

The challenges to corrections are significant and multi-faceted, having a significant adverse impact on corrections, public safety and government spending, not to mention the devastating impact for these individuals and their families.

The large and disproportionate number of offenders under correctional custody and supervision continue to be a serious management and safety problem in both our correctional institutions and our communities.

Project Goal: The overall goal of the initiative is to provide corrections mental health professionals, practitioners, policy makers and others with an interest in mental health and corrections, a framework and guide to implement best practice strategies to effectively work with and manage offenders in custody and/or under community supervision and who are challenged with mental health problems.

Document Requirements: The following are the expected document requirements. Note: Publications produced under this award must follow the “Guidelines for Preparing and Submitting Manuscripts for Publication” as found in the General Guidelines for Cooperative Agreements included in this award package. All final publications submitted for posting on the NIC Web site must meet the Federal government's requirement for accessibility (508 PDF or HTML file).

Document Length: The number of pages is to be determined. The document must include appendices and a bibliography.

Document Audience: Administrators, mental health and other program management staff, and line correctional staff in jails, prisons and community corrections agencies. The document will also target community mental health providers and policy makers.

Use of Document: The document will be an implementation guide to help State and local, and urban and rural correctional agencies implement a comprehensive framework/model and strategies to build and maintain partnerships with community-based mental health and social service providers to effectively manage and treat persons with mental illness.

Document Distribution: NIC expects to distribute the document widely. It will be made available on the NIC Web site and in print through the NIC Information Center, upon request and free of charge. It will also be made available through other agencies and organizations with an interest in providing services in the area of mental illness in criminal justice and corrections.

Document Content: The document will cover at a minimum: (1) The background and nature of the problem as it relates to managing offenders with mental illness in any correctional setting. This should include the impact of the problem in jail settings, prison settings and community supervision settings, and the impact on offenders diagnosed with mental illness, as well as how these systems can interface and increase efficacy with this group; (2) supporting research and evidence, surveys and assessments around the most effective models and practices for treating and managing the offenders with diagnosed mental illness. This should lead to the development or assembly of a best practice framework and model for the effective management and treatment of offenders diagnosed with mental illness, and collaboration with corrections, community mental health providers and other key stakeholders; (3) the roles of policy makers, administrators, program managers and line practitioners, from both corrections and mental health fields in addressing the problem and implementing solutions; (4) descriptions of strategies and practices that show the most promise in working effectively and efficiently with a mental health offender population. This must include strategies and practices for collaboration with corrections, the mental health provider community and the offenders and families. This discussion should focus on the differences and variable needs between large and small jurisdictions, and urban/metropolitan and rural jurisdictions, as well as the differences at the state, county and local levels; (5) examples of programs and strategies that have been implemented and demonstrate responsiveness to the needs and interests of corrections, mental health and offenders; (6) barriers to planning and implementing strategies and programs for working with mentally ill offenders, and systems working collaboratively to address the problems and needs of this population. The document will also provide suggestions for overcoming barriers, with examples around “lessons learned” from jurisdictions that have experienced success in this area; the development and presentation of a coherent framework/model for implementation of the best practice strategies and programs most likely to succeed in large urban and small rural jurisdictions, and at the state, county and local levels.

Note that this is only a preliminary schedule of content to be included. The document content and layout may be modified once the award recipient begins the document development work and consults with NIC project managers. It is expected that the award recipient build in a process and format to identify and inform the structure and content of the document, such as a focus group with key leaders and subject matter experts in this field.

General Scope of Work: The award recipient will produce a completed document that has received initial editing from a professional editor. NIC will be responsible for the final editing process and document design. The award recipient will remain available during this time to answer questions and to make revisions to the document. Document development will begin upon award of this agreement and must be completed 12 months after the award date.

Project Requirements: The following list shows the major activities required to complete the project. The schedule for completion of activities should include, at a minimum, the following activities on the part of the award recipient: Submit a detailed work plan with time lines and milestones for accomplishing project activities to the assigned CPS for approval prior to any work being performed under this agreement; meet with NIC project manager for an overview of the project and initial planning; review materials provided by NIC; complete the initial outline of document content and layout; meet with NIC project manager to review, discuss and agree on content outline; research content topics and related resources; submit draft sections of document to NIC for review; revise draft sections for NIC's approval; submit document to editor hired by award recipient for first content edit; submit draft of entire document to NIC for review; revise document for NIC's approval; submit document to NIC in hard copy and on disk in Microsoft Word format.

Throughout the project period, the award recipient must make provisions for meetings with NIC staff at critical planning and review points in document development.

Applicant Web-conference: A web-conference will be conducted for persons with the intent to apply to the solicitation on Thursday, January 7, 2009 at 12 p.m. EST. In this conference NIC project managers will respond to questions regarding the solicitation and expectation of work to be performed. This is optional and not a requirement of the application process. You must pre-register to attend the conference. You may register by going to https://nic.webex.com/nic/onstage/g.php?t=a&d=715880766 and following the registration instructions. You will be provided instructions for accessing the session.

Application Requirements: Applications should be concisely written, typed double spaced and reference the “NIC Opportunity Number” and Title provided in this announcement. The application package must include: OMB Standard Form 424, Application for Federal Assistance; a cover letter that identifies the audit agency responsible for the applicant's financial accounts as well as the audit period of fiscal year that the applicant operates under (e.g., July 1 through June 30), and an outline of projected costs. The following forms must also be included: OMB Standard Form 424A, Budget Information—Non Construction Programs, OMB Standard Form 424B, Assurances—Non Construction Programs (available at http://www.grants.gov), and DOJ/NIC Certification Regarding Lobbying; Debarment, Suspension and Other Responsibility Matters; and Drug-Free Workplace Requirements (available at http://www.nicic.gov/Downloads/PDF/certif-frm.pdf.)

Applications may be submitted in hard copy, or electronically via http://www.grants.gov. If submitted in hard copy, there needs to be an original and three copies of the full proposal (program and budget narratives, application forms and assurances). The original should have the applicant's signature in blue ink.

The narrative portion of the application must be limited to no more than 12 double spaced pages, exclusive of resumes and summaries of experience. The narrative should include, at a minimum: A brief paragraph indicating the applicant's understanding of the purpose of the document and the issues to be addressed; a brief paragraph that summarizes the project goals and objectives; a clear description of the methodology that will be used to complete the project and achieve its goals; a statement or chart of measurable project milestones and time lines for the completion of each milestone; a description of the qualifications of the applicant organization and a resume for the principle and each staff member assigned to the project that documents relevant knowledge, skills and ability to carry out the project; a minimum of three references for which the applicant has provided a similar service; a budget that details all costs for the project, shows consideration for all contingencies for this project, and notes a commitment to work within the proposed budget; and a sample of a least one document completed by the applicant. The applicant must specify its role in the production of the sample document(s).

Authority: Public Law 93-415.

Funds Available: NIC is seeking the applicant's best ideas regarding accomplishment of the scope of work and the related costs for achieving the goals of this solicitation. Funds may only be used for the activities that are linked to the desired outcome of the project.

This project will be a collaborative venture with the NIC Prisons Division.

Eligibility of Applicants: An eligible applicant is any public or private agency, educational institution, organization, individual or team with expertise in the described areas.

Review Considerations: Applications will be reviewed by a team of NIC staff. Among the criteria used to evaluate the applications are: Indication of a clear understanding of the project requirements; background, experience, and expertise of the proposed project staff, including any sub-contractors; effectiveness of the creative approach to the project; clear, concise description of all elements and tasks of the project, with sufficient and realistic time frames necessary to complete the tasks; technical soundness of project design and methodology; financial and administrative integrity of the proposal, including adherence to Federal financial guidelines and processes; a sufficiently detailed budget that shows consideration of all contingencies for this project and commitment to work within the budget proposed; and indication of availability to meet with NIC staff.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866—705-5711 and select option 1).

Registration in the CCR can be done online at the CCR Web site: http://www.ccr.gov. A CCR handbook and worksheet can also be viewed at the Web site.

Number of Awards: One.

NIC Opportunity Number: 10P08. This number should appear as a reference line in the cover letter, where indicated on Standard Form 424, and outside of the envelope in which the application is sent.

Catalog of Federal Domestic Assistance Number: 16.601.

Executive Order 12372: This project is not subject to the provisions of Executive Order 12372.

Thomas J. Beauclair,
Deputy Director, National Institute of Corrections.

[FR Doc. E9-29958 Filed 12-15-09; 8:45 am]

BILLING CODE 4410-36-P